DEPARTMENT OF COMMERCE

Minority Business Development Agency

[Docket No. 000724217-6248-14]

Solicitation of Applications for the Minority Business Enterprise Center (MBEC); (Formerly Minority Business Development Center (MBDC))

AGENCY: Minority Business Development Agency, Department of Commerce.

ACTION: Notice; re-open competition solicitation.

SUMMARY: The Minority Business Development Agency publishes this notice to re-open the competitive solicitation for the Minority Business Enterprise Center program for the Louisiana MBEC, covering the geographic service area of the State of Louisiana, and the Detroit MBEC, covering the geographic service area of the State of Michigan.

DATES: The new deadline for the receipt of proposals is October 18, 2006 for both electronic and paper applications.

ADDRESSES: The address for submitting Proposals electronically is: http://www.grants.gov/. (Electronic submission is encouraged). Paper submissions should be sent to:

If Mailed: If the application is mailed/shipped overnight by the applicant or its representative, one (1) signed original plus two copies of the application must be submitted. Completed application packages must be mailed to: Office of Business Development—MBEC Program, Office of Executive Secretariat, Herbert C. Hoover Building, Room 5063, Minority Business Development Agency, U.S. Department of Commerce, 14th and Constitution Avenue, NW., Washington, DC 20230 (Between Pennsylvania and Constitution Avenues).

U.S. Department of Commerce delivery policies for Federal Express, UPS and DHL overnight services require the packages to be sent to the address above.

If Hand-Delivered: U.S. Department of Commerce, Minority Business Development Agency, Office of Business Development—MBEC Program (Extension 1940), Herbert C. Hoover Building, Room 1874, Entrance No. 10, 15th Street, NW., Washington, DC (Between Pennsylvania and Constitution Avenues).

U.S. Department of Commerce hand-delivery policies state that Federal Express, UPS and DHL overnight services submitted to the address above (Entrance No. 10) cannot be accepted. These policies should be taken into consideration when utilizing their services. MBDA will not accept applications that are submitted by the deadline, but are rejected due to Departmental hand-delivery policies. The applicant must adhere to these policies in order for his/her application to receive consideration for the award.

FOR FURTHER INFORMATION CONTACT: For further information, contact Efrain Gonzalez, Program Manager, at (202) 482-1940 or via e-mail at egonzalez@mbda.gov.

SUPPLEMENTARY INFORMATION: The Minority Business Development Agency publishes this notice to re-open the competitive solicitation for the Minority Business Enterprise Center program for the Louisiana MBEC, covering the geographic service area of the State of Louisiana, and the Detroit MBEC, covering the geographic service area of the State of Michigan. This program was originally solicited in the Federal Register on June 26, 2006 (71 FR 42351). The original deadline for receipt of proposals was 5 p.m., Eastern Daylight Time, on September 20, 2006. MBDA re-opens the solicitation period to provide the public additional time to submit proposals for Louisiana MBEC, covering the geographic service area of the State of Louisiana, and the Detroit MBEC, covering the geographic service area of the State of Michigan. MBDA is re-opening the solicitation period for these two locations as no timely applications were received for these areas under the requirements of the original competition. The new deadline for the receipt of proposals for the Louisiana and Detroit MBECs is 5 p.m. EDT, October 18, 2006, for both electronic and paper applications. Applicants who submitted or attempted to submit applications under the original competition for these two geographic service areas should consider re-submitting their applications during this period of re-opened competition to ensure that their applications are complete. All applications that are submitted between September 20, 2006 and October 18, 2006, will be considered timely. All other requirements for this solicitation remain the same.

Limitation of Liability

Funding for programs listed in this notice is contingent upon the availability of Fiscal Year 2007 appropriations. Applicants are hereby given notice that funds have not yet been appropriated for the programs listed in this notice. In no event will MBDA or the Department of Commerce be responsible for proposal preparation costs if these programs fail to receive funding or are cancelled because of other agency priorities. Publication of this announcement does not oblige MBDA to award any specific project or to obligate any available funds.

Universal Identifier

Applicants should be aware that they are required to provide a Dun and Bradstreet Data Universal Numbering System (DUNS) number during the application process. See the October 30, 2002 Federal Register, Vol. 67, No. 210, pp. 66177B66178, for additional information. Organizations can receive a DUNS number at no cost by calling the dedicated toll-free DUNS Number request line at 1-866-705-5711 or via the Internet (http://www.dunandbradstreet.com).

Department of Commerce Pre-Award Notification Requirements for Grants and Cooperative Agreements

The Department of Commerce Pre-Award Notification Requirements for Grants and Cooperative Agreements contained in the Federal Register notice of December 30, 2004 (69 FR 78389), are applicable to this solicitation.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: September 29, 2006.
Ronald N. Langston,
National Director, Minority Business Development Agency.

[FR Doc. E6-16503 Filed 10-4-06; 8:45 am]

BILLING CODE 3510-21-P